FEDERAL MARITIME COMMISSION

Ocean Transportation Intermediary License Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 020451N.

Name: Daniel Cole Logistics, LLC.

Address: 313 F Trindale Road, Suite 201, Archdale, NC 27263.

Date Revoked: December 1, 2006.

Reason: Surrendered license voluntarily.

License Number: 018287NF.

Name: Tisco Logistics, Inc.

Address: 19 Schuyler Street, Pasippany, NJ 07054.

Date Revoked: December 7, 2006.

Reason: Surrendered license voluntarily.

Sandra L. Kusumoto,
Director, Bureau of Certification and Licensing.

[FR Doc. E6-22291 Filed 12-27-06; 8:45 am]

BILLING CODE 6730-01-P